DEPARTMENT OF DEFENSE

Department of the Navy

Privacy Act of 1974; System of Records

AGENCY: Department of the Navy, DoD.

ACTION: Notice to Add a System of Records.

SUMMARY: The Department of the Navy proposes to add a system of records notice to its inventory of record systems subject to the Privacy Act of 1974 (5 U.S.C. 552a), as amended.

DATES: This action will be effective on August 18, 2000 unless comments are received that would result in a contrary determination.

ADDRESSES: Send comments to the Department of the Navy, PA/FOIA Policy Branch, Chief of Naval Operations (N09B30), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act was submitted on July 6, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: July 13, 2000.
C.M. Robinson,
Alternate OSD Federal Register Liaison Officer, Department of Defense.

N01070-5

System name:

Database of Retired Navy Flag Officers.

System location:

Office of the Chief of Naval Operations (N09BC), 2000 Navy Pentagon, Washington, DC 20350-2000.

Categories of individuals covered by the system:

Retired Navy Flag Officers who voluntarily request to be part of the Retired Flag Officer Web Site.

Categories of records in the system:

The file contains personal and professional information, such as full name and nickname, rank, work and/or home address, home and/or office telephone/FAX/pager numbers, e-mail address, and spouse's name.

Authority for maintenance of the system:

5 U.S.C. 301, Departmental Regulations.

Purpose(s):

To maintain a directory of retired Navy flag officers for the purpose of providing briefings and outreach materials, and facilitating interaction between retired and active duty Navy flag officers via a limited access web site.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

Policies and practices for storing, retrieving, accessing, retaining, and disposing of records in the system:

Storage:

Computerized data base.

Retrievability:

Individual's name.

Safeguards:

Computerized data base is password protected and access is limited. The office is locked at the close of business. The office is located in the Pentagon which is guarded.

Retention and disposal:

Records are kept until the person is deceased or the person seeks removal of information, whichever is sooner.

System manager(s) and address:

Chief of Naval Operations (N09BC), 2000 Navy Pentagon, Washington, DC 20350-2000.

Notification procedure:

Individuals seeking to determine whether information about themselves is contained in this system should address written inquiries to the Chief of Naval Operations (N09BC), 2000 Navy Pentagon, Washington, DC 20350-2000.

Record access procedures:

Individuals seeking access to information about themselves contained in this system should address written inquiries to the Chief of Naval Operations (N09BC), 2000 Navy Pentagon, Washington, DC 20350-2000.

Contesting record procedures:

The Navy's rules for accessing records, and for contesting contents and appealing initial agency determinations are published in Secretary of the Navy Instruction 5211.5; 32 CFR part 701; or may be obtained from the system manager.

Record source categories:

Individual.

Exemptions claimed for the system:

None.

[FR Doc. 00-18191 Filed 7-18-00; 8:45 am]

BILLING CODE 5001-10-F